DEPARTMENT OF LABOR

Employment and Training Administration

[TA-W-54,685]

Amerex Corp.; Scotch Plains, NJ; Notice of Termination of Investigation

Pursuant to section 221 of the Trade Act of 1974, as amended, an investigation was initiated on April 7, 2004 in response to a worker petition filed by a state agency representative on behalf of workers at Amerex Corp., Scotch Plains, New Jersey.

The petitioner has requested that the petition be withdrawn. Consequently, the investigation has been terminated.

Signed at Washington, DC this 28th day of April 2004.
Linda G. Poole,
Certifying Officer, Division of Trade Adjustment Assistance.

[FR Doc. 04-11620 Filed 5-21-04; 8:45 am]

BILLING CODE 4510-30-P